NATIONAL AERONAUTICS AND SPACE ADMINISTRATION

[Notice: 25-036]

Name of Information Collection: Proposal Submissions and Awards Management System for the NASA Small Business Innovation Research/Small Business Technology Transfer (SBIR/STTR) Program Solicitations

AGENCY: National Aeronautics and Space Administration (NASA).

ACTION: Notice of a new information collection.

SUMMARY: NASA, as part of its continuing effort to reduce paperwork and respondent burden, invites the general public and other Federal agencies to take this opportunity to comment on proposed and/or continuing information collections, as required by the Paperwork Reduction Act of 1995 (PRA).

DATES: Comments are due by November 10, 2025.

ADDRESSES: Written comments and recommendations for this information collection should be sent within 60 days of publication of this notice at http://www.regulations.gov and search for NASA Docket [INSERT AGENCY DOCKET #].

FOR FURTHER INFORMATION CONTACT: Requests for additional information or copies of the information collection instrument(s) and instructions should be directed to NASA PRA Clearance Officer, Stayce Hoult, NASA Headquarters, 300 E Street SW, JC0000, Washington, DC 20546, phone 256-714-8575, or email stayce.d.hoult@nasa.gov or hq-ocio-pra-program@mail.nasa.gov.

SUPPLEMENTARY INFORMATION:

I. Abstract

The Small Business Innovation Research (SBIR) program is a highly competitive program that encourages domestic small businesses to engage in Federal Research/Research and Development (R/R&D) that has the potential for commercialization. Through a competitive awards-based program, SBIR enables small businesses to explore their technological potential and provides the incentive to profit from its commercialization. By including qualified small businesses in the nation's R&D arena, high-tech innovation is stimulated, and the United States gains entrepreneurial spirit as it meets its specific research and development needs.

The Small Business Technology Transfer (STTR) is another program that expands funding opportunities in the federal innovation research and development (R&D) arena. Central to the program is an expansion of the public/private sector partnership to include the joint venture opportunities for small businesses and nonprofit research institutions. STTR's most important role is to bridge the gap between the performance of basic science and commercialization of resulting innovations.

NASA is committed to effectively performing the Agency's communication function in accordance with the Space Act Section 203 (a)(3) to “provide for the widest practicable and appropriate dissemination of information concerning its activities and the results thereof,” and to enhance public understanding of, and participation in, the nation's aeronautical and space program in accordance with the NASA Strategic Plan.

II. Methods of Collection

NASA collects this information electronically.

III. Data

Title: Proposal Submissions and Awards Management System for the NASA Small Business Innovation Research/Small Business Technology Transfer (SBIR/STTR) program solicitations.

OMB Number: TBA.

Type of review: New Information Collection.

Affected Public: Profit and non-profit business or institutions.

Estimated Annual Number of Activities: 2.

Estimated Number of Respondents per Activity: 1,400.

Annual Responses: 2,800.

Estimated Time per Response: 16 hours.

Estimated Total Annual Burden Hours: 44,800 hours.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Stayce Hoult,
PRA Clearance Officer, National Aeronautics and Space Administration.

[FR Doc. 2025-17398 Filed 9-9-25; 8:45 am]

BILLING CODE 7510-13-P